ENVIRONMENTAL PROTECTION AGENCY

[FRL-9161-2]

Notice of Proposed Settlement Agreement and Opportunity for Public Comment: West Huntington Spill Site

AGENCY: Environmental Protection Agency (EPA).

ACTION: Notice.

SUMMARY: In accordance with section 122(i) of the Comprehensive Environmental Response, Compensation and Liability Act of 1980, as amended (“CERCLA”), 42 U.S.C. 9622(h)(i), notice is hereby given of a proposed settlement that is intended to resolve the potential liability under CERCLA of a party for response costs incurred by EPA and/or by the United States Department of Justice on behalf of EPA, in connection with the West Huntington Spill Site, Huntington, West Virginia (“Site”).

DATES: Written comments on the proposed settlement agreement must be received by July 14, 2010.

ADDRESSES: Submit your comments, identified by Docket No. CERC-03-2010-0022-CR, by mail to: Docket Clerk (3RC00), United States Environmental Protection Agency, Region III, 1650 Arch Street, Philadelphia, Pennsylvania 19103-2029.

FOR FURTHER INFORMATION CONTACT:

Robert Sanchez (3HS62), U.S. EPA, 1650 Arch Street, Philadelphia, PA 19103-2029, Telephone: (215) 814-2488, Fax number (215) 814-2603, E-mail address: Sanchez.Robert@epa.gov.

James Van Orden, U.S. EPA, 1650 Arch Street, Philadelphia, PA 19103-2010, Telephone: (215) 814-2693, Fax Number (215) 814-2601, E-mail address: Vanorden.James@epa.gov.

SUPPLEMENTARY INFORMATION:

I. Additional Information About the Proposed Settlement Agreement

Notice is hereby given of a proposed Settlement Agreement and Administrative Consent Order between the United States Environmental Protection Agency and Marathon Petroleum Company, LLC that has been approved, subject to public comment, pursuant to Section 122(h)(1) of CERCLA. The administrative agreement was signed by the Director of the Hazardous Site Cleanup Division, EPA Region III, on May 24, 2010. The settlement provides for recovery of $147,935.00 from Marathon Petroleum Company, LLC, which effectively represents the entirety of the costs incurred by EPA and the U.S. Department of Justice on behalf of EPA in connection with the Site.

The Environmental Protection Agency will receive written comments on the proposed administrative settlement for a period of thirty (30) days from the date of publication of this Notice. EPA or the Department of Justice may withdraw or withhold consent to the proposed settlement agreement if the comments disclose facts or considerations that indicate that such consent is inappropriate, improper, inadequate, or inconsistent with the requirements of CERCLA. Unless EPA or the Department of Justice determines, based on any comments which may be submitted, that consent to the settlement agreement should be withdrawn, the terms of the agreement will be affirmed.

II. Additional Information About Commenting on the Proposed Settlement Agreement

A. How can I get a copy of the settlement agreement?

A copy of the proposed Agreement for Recovery of Past Response Costs can be obtained from the United States Environmental Protection Agency, Region III, Office of Regional Counsel (3RC00), 1650 Arch Street, Philadelphia, Pennsylvania 19103-2029 by contacting James Van Orden, Assistant Regional Counsel, at (215) 814-2693, or via e-mail at Vanorden.James@epa.gov. It is important to note that it is EPA's policy to make public comments, whether submitted electronically or in paper, available to the public, unless the comment contains copyrighted material, CBI, or other information whose disclosure is restricted by statute.

B. How and to whom do I submit comments?

You may submit comments as provided in the ADDRESSES section. Please ensure that your comments are submitted within the specified comment period. Comments received after the close of the comment period will be marked “late.” EPA is not required to consider these late comments.

If you submit an electronic comment, EPA recommends that you include your name, mailing address, and e-mail address or other contact information in the body of your comment. This ensures that you can be identified as the submitter of the comment and allows EPA to contact you in case EPA cannot read your comment due to technical difficulties or needs further information on the substance of your comment. Any identifying or contact information provided in the body of a comment will be included as part of the comment. If EPA cannot read your comments due to technical difficulties and cannot contact you for clarification, EPA may not be able to consider your comment.

Dated: June 3, 2010.
Kathryn A. Hodgkiss,
Acting Director, Hazardous Site Cleanup Division, Region 3.

[FR Doc. 2010-14237 Filed 6-11-10; 8:45 am]

BILLING CODE 6560-50-P